INTERNATIONAL TRADE COMMISSION

Submission for OMB Review; Comment Request; Notice of Request for Extension of Previously Approved Generic Clearance for the Collection of Qualitative Feedback on Agency Service Delivery

AGENCY: International Trade Commission.

ACTION: 60-Day notice and request for comments.

SUMMARY: This notice announces the intention of the U.S. International Trade Commission (Commission) to request a three-year extension, under the Paperwork Reduction Act of 1995 (the Act), of the current generic clearance for the Collection of Qualitative Feedback on Agency Service Delivery that the Office of Management and Budget (OMB) previously approved. This collection was developed as part of a Federal Government-wide effort to streamline the process for seeking feedback from the public on service delivery. The current generic survey clearance is assigned OMB Control No. 3117-0222; it will expire on March 31, 2024. The Commission requests comments concerning the proposed information collections under section 3506(c)(2)(A) of the Act; this notice describes such comments in greater detail in the supplementary information section below.

DATES: To assure that the Commission will consider your comments, it must receive them no later than 60 days after publication of this notice in the Federal Register.

ADDRESSES: All Commission offices are in the United States International Trade Commission Building, 500 E Street SW, Washington, DC. Please note the Secretary's Office will accept only electronic filings at this time. No in-person paper-based filings or paper copies of any electronic filings will be accepted until further notice. See supplementary information section below for instructions on how to submit written comments.

FOR FURTHER INFORMATION CONTACT: You may obtain copies of supporting documents from Zachary Coughlin (Zachary.Coughlin@usitc.gov or 202-205-3435). Hearing-impaired persons can obtain information on this matter by contacting the Commission's TDD terminal on 202-205-1810. Persons with mobility impairments who will need special assistance in gaining access to the Commission should contact the Office of the Secretary at 202-205-2000. You may also obtain general information concerning the Commission by accessing its website (https://www.usitc.gov).

SUPPLEMENTARY INFORMATION:

Written Comments

You may submit comments, identified by docket number MISC-034. All submissions should be addressed to the Secretary and must conform to the provisions of section 201.8 of the Commission's Rules of Practice and Procedure (19 CFR 201.8). Section 201.8 and the Commission's Handbook on Filing Procedures require that interested parties file documents electronically on or before the filing deadline. Filings must be made through the Commission's Electronic Document Information System (EDIS, https://edis.usitc.gov). Persons with questions regarding filing should contact the Secretary at EDIS3Help@usitc.gov.

Request for Comments

The Commission solicits comments as to: (1) Whether the proposed information collection is necessary for the proper performance of the Commission's functions, including whether the information will have practical utility; (2) the accuracy of the Commission's estimate of the burden of the proposed information collection, including the validity of the methodology and assumptions used; (3) the quality, utility, clarity, and design of the information to be collected; and (4) minimization of the burden of the proposed information collection on those who are to respond (including through the use of appropriate automated, electronic, mechanical, or other technological forms of information technology (e.g., permitting electronic submission of responses)). To the extent appropriate, please cite to specific experiences that your firm has had with other governmental surveys and data collections.

Summary of the Proposed Information Collections

(1) Need for the Proposed Information Collections

The proposed information collection activity provides a means to garner qualitative customer and stakeholder feedback in an efficient, timely manner. This qualitative feedback provides useful insights on perceptions and opinions of customers and stakeholders. The feedback helps the Commission gain understanding into customer or stakeholder experiences and expectations and provides an early warning of issues with service, or focuses attention on areas where communication, training or changes in operations might improve delivery of products or services. These collections allow for ongoing, collaborative and actionable communications between the Commission and its customers and stakeholders and contribute directly to the improvement of program management.

(2) Description of the Information To Be Collected

The solicitation of feedback will target areas such as: timeliness, appropriateness, accuracy of information, courtesy, efficiency of service delivery, and resolution of issues with service delivery. Responses will be assessed to plan and inform efforts to improve or maintain the quality of service offered to the public. If this information is not collected, vital feedback from customers and stakeholders on the Agency's services will be unavailable.

Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential nonresponse bias, the protocols for data collection, and any testing procedures that were or will be undertaken prior to fielding the study. As a general matter, information collections will not result in any new system of records containing privacy information and will not ask questions of a sensitive nature.

The Agency will only submit a collection for approval under this generic clearance if it meets the following conditions:

• The collections are voluntary;

• The collections are low-burden for respondents (based on considerations of total burden hours, total number of respondents, or burden-hours per respondent) and are low-cost for both the respondents and the Federal Government;

• The collections are noncontroversial and do not raise issues of concern to other Federal agencies;

• Any collection is targeted to the solicitation of opinions from respondents who have experience with the program or may have experience with the program in the near future;

• Personally identifiable information (PII) is collected only to the extent necessary and is not retained;

• Information gathered will be used only internally for general service improvement and program management purposes and is not intended for release outside of the agency;

• Information gathered will yield qualitative information; the collections will not be designed or expected to yield statistically reliable results or used as though the results are generalizable to the population of study.

(3) Estimated Burden of the Proposed Information Collection

The Commission estimates that information collections issued under the requested generic clearance will impose an average annual burden of 350 hours on 1000 respondents.

No record keeping burden is known to result from the proposed collection of information.

By order of the Commission.
Issued: October 24, 2023.
Lisa R. Barton,
Secretary to the Commission.

[FR Doc. 2023-23756 Filed 10-26-23; 8:45 am]

BILLING CODE 7020-02-P